DEPARTMENT OF AGRICULTURE

Food and Nutrition Service

Agency Information Collection Activities: Supplemental Nutrition Assistance Program: Performance Reporting System, Management Evaluation

AGENCY: Food and Nutrition Service (FNS), USDA.

ACTION: Notice.

SUMMARY: In accordance with the Paperwork Reduction Act of 1995, this notice invites the general public and other public agencies to comment on this proposed information collection. This is a revision of a currently approved collection and existing burden in use without a valid OMB control number in the Supplemental Nutrition Assistance Program (SNAP). This information collection is for the Performance Reporting System and management evaluation processes, which ensure that SNAP State agencies are operating the program in accordance with statute and regulations. The Food and Nutrition Service (FNS) and SNAP State agencies use this information to evaluate State agency operations and to collect information necessary to develop solutions to improve the State's administration of SNAP policy and procedures.

DATES: Written comments must be received on or before November 28, 2022.

ADDRESSES: Comments may be sent to: Program Design Branch, Program Development Division, Food and Nutrition Service, U.S. Department of Agriculture, 1320 Braddock Place, 5th Floor, Alexandria, VA 22314. Comments may also be submitted via phone to Jessica Luna at 703-305-2022 or via email to SNAPPDBRules@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Jessica Luna at 703-305-2022.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Supplemental Nutrition Assistance Program: Performance Reporting System, Management Evaluation.

Form Number: N/A.

OMB Control Number: 0584-0010.

Expiration Date: July 31, 2023.

Type of Request: Revision of a currently approved collection to include an existing collection in use without an OMB control number.

Abstract: The purpose of the Performance Reporting System (PRS) is to ensure that each State agency and project area is operating the Supplemental Nutrition Assistance Program (SNAP) in accordance with the requirements of the Food and Nutrition Act of 2008 (the Act) (7 U.S.C. 2011, et seq.), as amended, and corresponding program regulations. Under Section 11 of the Act, all 53 SNAP State agencies must maintain records to ascertain that the program is operating in compliance with the Act and regulations by conducting State management evaluations in each of their project areas as outlined in 7 CFR 275.5. Management evaluations (MEs) are reviews that State agencies complete at local SNAP offices to monitor program access, program integrity, and operations. States must make these records available to the Food and Nutrition Service (FNS) of the United States Department of Agriculture (USDA) for inspection and audit. To conduct Federal oversight of State operations, FNS Regional offices also conduct Federal management evaluations of State agencies in all 53 SNAP States in accordance with 7 CFR 275.3(a) and (b).

State Management Evaluations

In the process of renewing this information collection, FNS consulted with 7 State agencies to update, if necessary, estimates for the time that State agency staff spend preparing State ME schedules, conducting State ME reviews, and maintaining State ME records.

7 CFR 275.20 requires each State agency to submit State ME review schedules to FNS. The review schedules must ensure that all project areas will be reviewed every one, two or three years, depending on the project area size, unless the State receives approval for an alternative ME review schedule, per regulations at 7 CFR 275.5(b). FNS defines project areas as the county or similar political subdivision designated by a State as the administrative unit for program operations. Per definitions at 7 CFR 271.2, FNS defines project areas as large, medium or small depending on the number of households in their monthly active caseload. The number of hours required to prepare these review schedules is a function of the number and size of project areas in the State. FNS assumes that it takes approximately 4 hours for each State to generate and submit their yearly review schedule via email or other electronic means to their respective FNS Regional Office. The agency did not find adjustments necessary to this category following State agency consultation.

Because States do not review all project areas annually, FNS estimates that States will conduct reviews in half of the total number of project areas each year. Therefore, each of the 53 State agencies will conduct approximately 27 management evaluations annually (total of 1,431 State MEs nationally). It will take approximately 340 hours for States to conduct each of these reviews. The agency did not find adjustments necessary to this category following State agency consultation.

Each State agency must keep records of ME reviews and submit such reports and other information to their respective FNS Regional Office as required under 7 CFR 275.4. States generally submit these reports and other information via email, though in some cases the FNS Regional Office may facilitate submission via a web-based collaboration and document management platform. The State agency must retain all ME records for audit and review purposes for no less than three years from the month of record origin. Following State agency consultation, FNS adjusted the recordkeeping burden for State MEs to more accurately account for State time used, adding 5,968 burden hours as compared to the previous approval for this collection. FNS estimates that recordkeeping burden related to ME reviews requires one record keeper per each State agency. Each recordkeeper manages approximately 29 records each year and it takes 4 hours to complete each record.

Federal Management Evaluations

Under 7 CFR 275.3, FNS also conducts monitoring reviews to ensure that State agencies are operating SNAP and their State management evaluation (ME) programs in accordance with SNAP requirements. Federal management evaluations, which the FNS Regional offices conduct, are very similar to those conducted by the States. States participating in Federal management evaluations incur burden related to preparing for and facilitating the Regional office's review during the Federal ME.

With this information collection request, FNS is seeking OMB approval for the burden hours associated with Federal management evaluation information that is currently being collected in violation of the PRA without a valid OMB control number. Therefore, the burden estimates for this requirement represent an additional 8,692 burden hours not included in the previous approval of this collection. To prepare the below estimate, FNS used the same State consultations mentioned above to estimate the time that State agency staff spend on Federal ME reviews.

According to FNS internal records from previous years, FNS Regional offices typically conduct management evaluations twice a year in each SNAP State for an average total of 106 Federal MEs each year. To prepare for a Federal ME, States must gather documentation and information for FNS' review. For example, documentation may include procedure manuals, example notifications, and case records. The information required for the ME is dependent on the type of ME being performed and most items are submitted electronically via email to FNS Regional offices prior to the ME to allow time for review. Once FNS begins the review, States host FNS Regional office employees at a designated location, participate in interviews, and facilitate SNAP case file reviews. FNS estimates that it takes a State approximately 82 hours total to prepare for, attend, and help facilitate each Federal ME.

There is no recordkeeping burden for the affected public associated with Federal MEs for this information collection since FNS is the recordholder.

Corrective Action Plans

Using the same 7 State agency consultations mentioned previously, FNS updated the reporting burden estimates related to corrective action plans resulting from State and Federal management evaluations. Due to the resulting updates, the burden hours for this requirement represent an additional 636 burden hours for Corrective Action Plans (CAPs) that was not included in the previous approval of this collection.

As required at 7 CFR 275, each State has an established system for analysis and evaluation of all data available to the State during both State and Federal MEs. Data analysis and evaluation are ongoing processes that facilitate the development of prompt corrective action. Through the ME process, States and FNS Regional offices often identify deficiencies (i.e., findings) in the application of SNAP policy and requirements. According to requirements at 7 CFR 275.16 through 7 CFR 275.18, State agencies must prepare a CAP addressing all findings identified. FNS estimates that each State will prepare two semi-annual, comprehensive CAPs, which States submit electronically to FNS Regional Offices. States generally submit these plans via email, though in some cases the FNS Regional Office may facilitate submission via a web-based collaboration and document management platform. These plans cover all corrective actions that States are responsible for undertaking following both State ME findings and Federal ME findings. State agencies have systems for monitoring and evaluating corrective action, per regulations at 7 CFR 275.19. FNS estimates that it takes an average of 46 hours to develop and monitor each semi-annual CAP.

Reporting

Affected Public: State, Local, and Tribal Government.

Respondent Type: State SNAP Agencies.

Estimated Number of Respondents: 53.

Estimated Number of Responses per Respondent: 32.

Estimated Total Annual Responses: 1,696.

Estimated Time per Response: 295 hours.

Estimated Total Annual Burden on Respondents: 500,320 hours.

Recordkeeping

Affected Public: State, Local, and Tribal Government.

Respondent Type: State SNAP Agencies.

Estimated Number of Respondents: 53.

Estimated Number of Responses per Respondent: 29.

Estimated Total Annual Responses: 1,537.

Estimated Time per Response: 4 hours.

Estimated Total Annual Burden on Respondents: 6,148 hours.

Burden activities | Reg. section | Respondent type | Description of activity | Estimated number of respondents | Estimated frequency of response | Estimated total annual responses | Estimated number of burden hours per response | Estimated total burden hours | Burden hours in use without a valid OMB control No. | Previously approved burden hours | Difference due to adjustments | Differences due to program changes
State ME | 7 CFR 275.20 | State SNAP Agencies | Prepare State and local agencies management evaluation schedule | 53 | 1 | 53 | 4 | 212 | 0 | 212 | 0 | 0
| 7 CFR 275.9 | State SNAP Agencies | Conduct State management evaluation reviews | 53 | 27 | 1,431 | 340 | 486,540 | 0 | 486,540 | 0 | 0
Federal ME | 7 CFR 275.3 | State SNAP Agencies | Facilitate Federal management evaluation reviews | 53 | 2 | 106 | 82 | 8,692 | 8,692 | 0 | 8,692 | 0
All ME | 7 CFR 275.16-275.19 | State SNAP Agencies | Prepare and monitor corrective action plan | 53 | 2 | 106 | 46 | 4,876 | 0 | 4,240 | 636 | 0
State Agency Subtotal Reporting | 53 | 32 | 1,696 | 295 | 500,320 | 8,692 | 490,992 | 9,328 | 0
Reporting Total Burden Estimates | 53 | 32 | 1,696 | 295 | 500,320 | 8,692 | 490,992 | 9,328 | 0
State ME | 7 CFR 275.4 | State SNAP Agencies | Maintain management evaluation records | 53 | 29 | 1,537 | 4 | 6,148 | 0 | 180 | 5,968 | 0
State Agency Subtotal Recordkeeping | 53 | 29 | 1,537 | 4 | 6,148 | 0 | 180 | 5,968 | 0
Recordkeeping Total Burden Estimates | 53 | 29 | 1,537 | 4 | 6,148 | 0 | 180 | 5,968 | 0

Tameka Owens,
Assistant Administrator, Food and Nutrition Service.

[FR Doc. 2022-21033 Filed 9-27-22; 8:45 am]

BILLING CODE 3410-30-P